INTERNATIONAL TRADE COMMISSION

[Investigation No. 731-TA-739 (Third Review)]

Clad Steel Plate From Japan; Determination

On the basis of the record ¹ developed in the subject five-year review, the United States International Trade Commission (Commission) determines, pursuant to section 751(c) of the Tariff Act of 1930 (19 U.S.C. 1675(c)), that revocation of the antidumping duty order on clad steel plate from Japan would be likely to lead to continuation or recurrence of material injury to an industry in the United States within a reasonably foreseeable time.²

¹ The record is defined in sec. 207.2(f) of the Commission's Rules of Practice and Procedure (19 CFR 207.2(f)).

² Commissioners Pearson and Broadbent dissenting.

Background

The Commission instituted this review on February 1, 2012 (77 FR 5052) and determined on May 7, 2012 that it would conduct a full review (77 FR 37439, June 21, 2012). Notice of the scheduling of the Commission's review and of a public hearing to be held in connection therewith was given by posting copies of the notice in the Office of the Secretary, U.S. International Trade Commission, Washington, DC, and by publishing the notice in the Federal Register on June 29, 2012 (77 FR 38825). The hearing was held in Washington, DC, on December 6, 2012, and all persons who requested the opportunity were permitted to appear in person or by counsel.

The Commission transmitted its determination in this review to the Secretary of Commerce on January 28, 2013. The views of the Commission are contained in USITC Publication 4370 (January 2013), entitled Clad Steel Plate from Japan: Investigation No. 731-TA-739 (Third Review).

Issued: January 28, 2013.
By order of the Commission.
Lisa R. Barton,
Acting Secretary to the Commission.

[FR Doc. 2013-02145 Filed 1-31-13; 8:45 am]

BILLING CODE 7020-02-P